DEPARTMENT OF COMMERCE

National Telecommunications and Information Administration

Multistakeholder Meetings To Develop Consumer Data Privacy Code of Conduct Concerning Mobile Application Transparency

AGENCY: National Telecommunications and Information Administration, U.S. Department of Commerce.

ACTION: Notice of open meetings.

SUMMARY: The National Telecommunications and Information Administration (NTIA) will convene meetings of a privacy multistakeholder process concerning mobile application transparency.

DATES: The meetings will be held on August 22, 2012, and August 29, 2012, from 9:30 a.m. to 1 p.m., Eastern Daylight Time; and on September 19, 2012, October 10, 2012, November 7, 2012, November 30, 2012, and December 18, 2012, from 9:30 a.m. to 4 p.m., Eastern Time. Please refer to NTIA's Web site, https://www.ntia.doc.gov/other-publication/2012/privacy-multistakeholder-process-mobile-application-transparency, for the most current information.

ADDRESSES: The meetings will be held in the Auditorium of the U.S. Department of Commerce, Herbert C. Hoover Building, 14th Street and Constitution Avenue NW., Washington, DC.

FOR FURTHER INFORMATION CONTACT: John Verdi, National Telecommunications and Information Administration, U.S. Department of Commerce, 1401 Constitution Avenue NW., Room 4725, Washington, DC 20230; telephone (202) 482-8238; email jverdi@ntia.doc.gov. Please direct media inquiries to NTIA's Office of Public Affairs, (202) 482-7002.

SUPPLEMENTARY INFORMATION: Background: On February 23, 2012, the White House released Consumer Data Privacy in a Networked World: A Framework for Protecting Privacy and Promoting Innovation in the Global Digital Economy (the “Privacy Blueprint”).¹ The Privacy Blueprint directs NTIA to convene multistakeholder processes to develop legally enforceable codes of conduct that specify how the Consumer Privacy Bill of Rights applies in specific business contexts.² On June 15, 2012, NTIA announced that the goal of the first multistakeholder process is to develop a code of conduct to provide transparency in how companies providing applications and interactive services for mobile devices handle personal data.³ On July 12, 2012, NTIA convened the first meeting of the first privacy multistakeholder process.

¹ The Privacy Blueprint is available at http://www.whitehouse.gov/sites/default/files/privacy-final.pdf.

² Id.

³ NTIA, First Privacy Multistakeholder Meeting: July 12, 2012, http://www.ntia.doc.gov/other-publication/2012/first-privacy-multistakeholder-meeting-july-12-2012.

Matters To Be Considered: The August 22, 2012, August 29, 2012, September 19, 2012, October 10, 2012, November 7, 2012, November 30, 2012, and December 18, 2012, meetings are part of a series of NTIA-convened multistakeholder discussions concerning mobile application transparency. The first meeting was held on July 12, 2012. Stakeholders will engage in an open, transparent, consensus-driven process to develop a code of conduct regarding mobile application transparency. In addition, the meetings will provide a venue for stakeholders to agree on the schedule, location, and format of future meetings. The August meetings will feature a facilitated discussion that builds on stakeholders' work at the July 12, 2012 meeting.

Time and Date: NTIA will convene meetings of the privacy multistakeholder process on August 22, 2012, and August 29, 2012, from 9:30 a.m. to 1 p.m., Eastern Daylight Time; and on September 19, 2012, October 10, 2012, November 7, 2012, November 30, 2012, and December 18, 2012, from 9:30 a.m. to 4 p.m., Eastern Time. The meeting times are subject to change. Please refer to NTIA's Web site, https://www.ntia.doc.gov/other-publication/2012/privacy-multistakeholder-process-mobile-application-transparency, for the most current information.

Place: The meetings will be held in the Auditorium of the U.S. Department of Commerce, Herbert C. Hoover Building, 14th Street and Constitution Avenue NW., Washington, DC. The location of the September—December meetings is subject to change. Please refer to NTIA's Web site, https://www.ntia.doc.gov/other-publication/2012/privacy-multistakeholder-process-mobile-application-transparency, for the most current information.

Other Information: The meetings are open to the public and the press. Attendees should arrive at least one-half hour prior to the start of each meeting. Due to security requirements and to facilitate entry to the Department of Commerce building, U.S. nationals must present a valid, government-issued photo identification upon arrival. Foreign nationals must contact John Verdi at (202) 482-8238 or jverdi@ntia.doc.gov at least five (5) business days prior to each meeting in order to provide the necessary clearance information, and must present a valid, government-issued photo identification upon arrival. These meetings are physically accessible to people with disabilities. Requests for sign language interpretation or other auxiliary aids should be directed to John Verdi at (202) 482-8238 or jverdi@ntia.doc.gov at least seven (7) business days prior to each meeting. The meetings will also be webcast. There will be an opportunity for stakeholders viewing the webcast to participate remotely in the meetings through a moderated conference bridge, including polling functionality. Access details for the meetings are subject to change. Please refer to NTIA's Web site, https://www.ntia.doc.gov/other-publication/2012/privacy-multistakeholder-process-mobile-application-transparency, for the most current information.

Dated: July 30, 2012.
Kathy D. Smith,
Chief Counsel, National Telecommunications and Information Administration.

[FR Doc. 2012-18950 Filed 8-1-12; 8:45 am]

BILLING CODE 3510-60-P